EQUAL EMPLOYMENT OPPORTUNITY COMMISSION

Sunshine Act Meetings

TIME AND DATE: Friday, August 24, 2018, 9:00 a.m. Eastern Time.

PLACE: Jacqueline A. Berrien Training Center on the First Floor of the EEOC Office Building, 131 “M” Street NE, Washington, DC 20507.

STATUS: The meeting will be closed to the public.

MATTERS TO BE CONSIDERED:

Closed Session

The Associate Legal Counsel has certified that, in her opinion, exemption 10 of the Sunshine Act, 5 U.S.C. 552b(c)(10) and 29 CFR 1612.4(j), permits consideration of the scheduled matters at the closed meeting.

Agency Adjudication and Determination on Federal Agency Discrimination Complaint Appeals:

The Commission will be considering four (4) cases.

Note: Any matter not discussed or concluded may be carried over to a later meeting. (In addition to publishing notices on EEOC Commission meetings in the Federal Register, the Commission also provides information about Commission meetings on its website, www.eeoc.gov., and provides a recorded announcement a week in advance on future Commission sessions.)

Please telephone (202) 663-7100 (voice) and (202) 663-4074 (TTY) at any time for information on these meetings. The EEOC provides sign language interpretation and Communication Access Realtime Translation (CART) services at Commission meetings for the hearing impaired. Requests for other reasonable accommodations may be made by using the voice and TTY numbers listed above.

CONTACT PERSON FOR FURTHER INFORMATION: Bernadette B. Wilson, Executive Officer on (202) 663-4077.

Dated: August 15, 2018.
Bernadette B. Wilson,
Executive Officer, Executive Secretariat.

[FR Doc. 2018-17922 Filed 8-15-18; 4:15 pm]

BILLING CODE 6570-01-P